DEPARTMENT OF TRANSPORTATION

Federal Motor Carrier Safety Administration

[Docket No. FMCSA-2014-0195]

Agency Information Collection Activities; Revision of a Currently-Approved Information Collection Request: Commercial Driver Licensing and Test Standards

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for approval and invites public comment. The FMCSA requests approval to revise and renew an ICR entitled, “Commercial Driver Licensing and Test Standards,” due to an increase in the number of Commercial Driver License Information System (CDLIS) driver records from 12.8 to 14.6 million and the addition of one information collection item: “Driver completion of knowledge and skills tests [49 CFR 383.71(a)(2)(ii) and (b)(2)].” This ICR is needed to ensure that drivers, motor carriers and the States are complying with notification and recordkeeping requirements for information related to testing, licensing, violations, convictions and disqualifications and that the information is accurate, complete and transmitted and recorded within certain time periods as required by the Commercial Motor Vehicle Safety Act of 1986 (CMVSA), as amended.

DATES: Please send your comments by September 2, 2014. OMB must receive your comments by this date in order to act on the ICR.

ADDRESSES: All comments should reference Federal Docket Management System (FDMS) Docket Number FMCSA-2014-0195. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW., Washington, DC 20503.

FOR FURTHER INFORMATION CONTACT: Mr. Robert Redmond, Office of Safety Programs, Commercial Driver's License Division (MC-ESL), Department of Transportation, Federal Motor Carrier Safety Administration, West Building 6th Floor, 1200 New Jersey Avenue SE., Washington, DC, 20590-0001. Telephone: 202-366-5014; email: robert.redmond@dot.gov.

SUPPLEMENTARY INFORMATION: Title: Commercial Driver Licensing and Test Standards.

OMB Control Number: 2126-0011.

Type of Request: Revision of a currently-approved information collection.

Respondents: Drivers with a commercial learner's permit (CLP) or commercial driver's license (CDL) and State driver licensing agencies (SDLAs).

Estimated Number of Respondents: 11,410,100 driver respondents and 17,900,986 State respondents.

Estimated Time per Response: Drivers: 16.29 minutes per response and States: 1.86 minutes per response.

Expiration Date: August 31, 2014.

Frequency of Response: Variable.

Estimated Total Annual Burden: 3,651,867 hours.

The information collection is comprised of twelve components:

(1) State Recording of Medical Examiner's Certificate Information: Approximately 69% of the 2.96 million interstate CDL holders would renew their medical certification every 2 years. Approximately 31% of the 2.96 million interstate CDL holders would renew their medical certification every year as a condition of a medical variance (i.e., an exemption, Skill Performance Evaluation (SPE) certificate or pilot program) or their employer requires another examination. It takes approximately 2 minutes to record the medical examiner's certificate information on the CDLIS driver record.

FMCSA estimates that there are 657,000 new drivers (5% of the current total of 13.14 million active CDL driver records) who would obtain a CDL every year and that 74% of these new 657,000 CDL holders, or 486,180 new CDL holders would be engaged in interstate commerce.

The number of existing CDL holders who would need to renew and submit a copy of their medical examiner's certificate to the State would be 2.96 million CDL holders engaged in interstate commerce. Since 31% of the 2.96 million interstate CDL holders would need to submit a copy of their medical examiner's certificate to the State every year as a condition of their medical variance or their new employer requires another examination, the total number of renewal submittals (responses) for a 2-year cycle would be 3.88 million (2.96 million × 1.31 = 3.88 million). The annual submittal of medical examiner's certificates to the State would be 2.43 million annual responses (3.88 million/2 years + 486,180 new drivers = 2.43 million).

FMCSA estimates a total of 81,000 annual burden hours (2.43 million responses × 2/60 hours = 81,000) for the States to obtain and record the medical examiner's certificate information on the CDLIS driver record.

(2) State Recording of the Self Certification of Commercial Motor Vehicle (CMV) Operation: All CDL holders would need to have their self-certification of CMV operation information recorded on their CDLIS driver record as either “non-excepted interstate,” “excepted interstate,” “non-excepted intrastate” or “excepted intrastate.” Only CDL holders subject to part 391 (non-excepted, interstate drivers) would be required to submit a medical examiner's certificate to the SDLA.

CDLs are renewed on average every 5 years. It takes approximately 5 seconds (.083 minutes) for the SDLA to record the medical certification status information on the CDLIS driver record.

FMCSA estimates the annual SDLA recording of self- certification of CMV operation information would be 3,285,000 million annual responses (13.14 million/5 years + 657,000 million new CDL drivers = 3,285,000).

FMCSA estimates the SDLA recording of self-certification of CMV operation information at a total annual burden of 4,544 hours (3,285,000 million responses × .083/60 hours = 4,544 hours).

(3) State Verification of Medical Certification Status: Only the medical certification status information of CDL holders subject to part 391 must be verified because they are the only drivers required to be medically certified.

Approximately 2% of active CDLIS driver records are transferred to another State each year.

It takes approximately 5 seconds (.083 minutes) to verify the medical certification status information of a CDL driver who operates a CMV in interstate commerce.

FMCSA estimates that the SDLA's annual verification of medical certification status information would generate 651,200 annual responses [(2,960,000 renewals/5 years) + (.02 × 2,960,000 transfers per year) = 651,200).

FMCSA estimates a total annual burden of 901hours (651,200 × .083/60 hours = 901) for SDLAs to verify the medical certification status information of all interstate CDL drivers.

(4) Driver Notification of Convictions/Disqualifications to Employer: There are approximately 13.14 million active commercial driver's license (CDL) driver records. Each driver averages 1 conviction every 3 years. The estimated number of annual responses is 4,380,000 (13.14 million CDL drivers/3 = 4.380,000). It takes approximately 10 minutes to notify a motor carrier concerning convictions and disqualifications. The notification requirement has an estimated annual burden of 730,000 burden hours (4,380,000 convictions/disqualifications × 10/60 hours = 730,000 hours);

(5) Driver Providing Previous Employment History to New Employer: The estimated annual turnover rate of drivers is approximately 14 percent (%) based on industry estimates. There are an estimated 1,839,800 annual responses to this requirement (13.14 million CDL holders × .14 annual turnover rate = 1,839,800). It takes approximately 15 minutes to complete this requirement. The employment history requirement has an estimated annual burden of 459,950 burden hours (1,839,800 annual responses × 15/60 hours = 459,950 hours);

(6) Annual State Certification of Compliance: There are 51 responses (50 States and the District of Columbia) to this requirement and it takes approximately 32 hours to complete compliance documents. The compliance certification requirement has an estimated annual burden of 1,632 burden hours (51 responses × 32 hours = 1,632 hours);

(7) State Preparing For and Participating in Annual Program Review: A State CDL program review is conducted every year. There are 51 responses (50 States and the District of Columbia) to this requirement. It takes approximately 40 hours to complete each response with a staff of 5 persons. The State annual program review requirement has an estimated annual burden of 10,200 burden hours (51 States × 40 hours × 5 staff = 10,200 hours).

(8) CDLIS/PDPS/State Recordkeeping: Fifty (50) States and the District of Columbia are required to enter data into the commercial driver's license information system (CDLIS) about operators of CMVs and to perform record checks before issuing, renewing, upgrading or transferring a CDL.

There are approximately 657,000 new drivers a year (13.14 million drivers × .05 = 657,000 new drivers). FMCSA estimates that the average amount of time for each record inquiry performed by a State to add a new driver is 2 minutes. The new driver requirement has an estimated annual burden of 27,900 burden hours (657,000 new drivers × 2/60 = 27,900 hours).

The average renewal period is 5 years. There are approximately 2,628,000 CDLs renewed each year (13.14 million drivers/5 years = 2,628,000). FMCSA estimates that the average amount of time for each record inquiry performed by a State to renew a license is 2 minutes. The renewal record inquiry requirement has an estimated annual burden of 87,600 burden hours (2,628,000 × 2/60 hours = 87,600 hours).

Approximately 2 percent of drivers transfer to a new state each year. There are 262,800 drivers a year who change their State of domicile (13.14 million drivers × .02 = 282,800 drivers). FMCSA estimate that the average amount of time for each record inquiry performed by a State to change a driver's State of domicile is 2 minutes. The driver transfer requirement has an estimated annual burden of 8,760 burden hours (262,800 transferred drivers × 2/60 hours = 8,760 hours).

Each driver averages approximately 1 conviction every three years and approximately 25 percent of the convictions result in a disqualification. There are 5,475,000 driver convictions and disqualifications (13.14 million/3 convictions × 1.25 = 5,475,000). We estimate that the average amount of time for each transaction performed by a State is 2 minutes. The driver conviction/disqualification transaction requirement has an estimated annual burden of 182,500 burden hours (5,475,000 transactions × 2/60 hours = 182,500 hours).

Approximately 33 percent of active CDL drivers have a hazardous materials endorsement. The average renewal period is approximately 5 years. There are 867,240 drivers a year renewing a CDL with a hazardous materials endorsement (13.14 million drivers × .33/5 years = 867,240 drivers). The Agency estimates that the average amount of time for each citizenship/resident alien status inquiry performed by a State is 2 minutes. The citizenship/resident alien status inquiry transaction requirement has an estimated annual burden of 28,908 burden hours (867,240 drivers × 2/60 hours = 28,908 hours).

The total annual burden hours for these combined collection of information activities is 335,668 burden hours (27,900 hours + 87,600 hours + 8,760 hours + 182,500 hours + 28,908 hours = 335,668 hours).

(9) Driver Completion of the CDL Application Form: There are approximately 657,000 new CDL applicants a year (13.14 million × .05 = 657,000). It takes approximately 1 minute to complete the CDL part of application form. The new applicant CDL application requirement has an estimated annual burden of 10,950 burden hours (657,000 applications × 1/60 hours = 10,950 hours).

The average CDL renewal period is approximately 5 years. Therefore, 2,628,000 drivers renew their CDL a year (13.14 million drivers/5 years = 2,628,000 drivers). It takes approximately 1 minute for renewal drivers to complete the CDL part of the application form. The renewal driver CDL application form requirement has an estimated annual burden of 43,800 burden hours (2,628,000 × 1/60 hours = 43,800 hours).

Approximately 2 percent of drivers transfer to a new State each year. FMCSA estimates that there are 262,800 transfer drivers (13.14 million × .02 = 262,800). It takes approximately 1 minute for transfer drivers to complete the CDL part of the application form. The transfer driver CDL application form requirement has an estimated annual burden of 4,380 hours (262,800 × 1/60 = 4,380).

The total annual burden hours for these combined collection of information activities is 59,130 hours (10,950 hours + 43,800 hours + 4,380 = 59,130 hours).

(10) Driver Completion of Knowledge and Skills Tests: FMCSA estimates that there are 657,000 new drivers (5% of the current total of 13.14 million active CDL driver records) who would obtain a CDL every year.

Approximately 25 percent of the applicants fail the CDL knowledge and skills tests the first time they take the tests.

FMCSA estimates that a knowledge test on average takes 45 minutes to complete and a skills test on average takes 90 minutes to complete.

The Agency estimates there are 821,250 knowledge tests completed every year (657,000 × 1.25 = 821,250).

The Agency estimates the annual burden for taking the knowledge test is 615,938 burden hours (821,250 × 45/60 hour/test = 615,938).

The Agency estimates there are 821,250 skills tests completed every year (657,000 × 1.25 = 821,250).

The Agency estimates the annual burden for taking the skills tests is 1,231,875 hours (821,250 × 90/60 hour/test = 1,231,875).

The total annual burden hours for these combined collection of information activities is 1,847,813 burden hours (615,938 hours + 1,231,875 hours = 1,847,813 hours).

(11) Knowledge and Skills Test Recordkeeping: There are approximately 657,000 new CDL applicants a year (13.14 million × .05 = 657,000). It takes approximately 2 minutes to record the results of knowledge tests and 5 minutes for the skills tests. Approximately 25 percent of the applicants fail the knowledge and skills tests the first time they take the tests.

The knowledge test recordkeeping requirement has an estimated annual burden of 27,375 burden hours (657,000 applicants × 2/60 hours × 1.25 = 27,375 hours).

The skills test recordkeeping requirement has an estimated annual burden of 68,438 hours (657,000 applicants × 5/60 hours × 1.25 = 68,438).

The total annual burden hours are 95,813 burden hours for these combined activities (27,375 + 68,438 = 95,813).

(12) Knowledge and Skills Test Examiner Certification: Based on data from the American Association of Motor Vehicle Administrator, FMCSA estimates that there are 2,144 examiners who administer CDL tests.

Based on a sampling of several SDLAs, approximately 25 percent of the examiners will only administer the knowledge test.

Based on Federal employee experience in developing training courses, it is estimated that the initial combined knowledge and skills test examiner training will take 40 hours to complete and that the initial knowledge-test-only examiner training will take 20 hours to complete. States will spread the initial training over the 3 year implementation period.

Based on Federal employee observation of SDLA licensing activities, a criminal background check on an examiner will take approximately 15 minutes to process and evaluate the results and the average amount of time to record results of examiner training, certification and criminal background checks is approximately 2 minutes.

FMCSA estimates the annual burden for examiners to complete the initial combined knowledge and skills test training and certification is 21,440 burden hours ([.75 × 2,144 examiners/3 years] × 40 hours = 21,440) and that the annual burden for examiners to complete the initial knowledge-test-only training and certification is 3,573 burden hours ([.25 × 2,144 examiners/3 years] × 20 hours = 3,573). The total annual burden for initial examiner training is 25,013 burden hours (21,440 + 3,573 = 25,013).

FMCSA estimates the annual burden for States to process and evaluate criminal background checks is 179 burden hours ([2,144 examiners/3 years] × 15/60 hours = 179).

FMCSA estimates the annual burden for States to record results of examiner training, certification and criminal background checks is 24 burden hours ([2,144 examiners/3 years] × 2/60 hours = 24).

The total annual burden hours for these combined collection of information activities is 25,216 burden hours (25,013 hours + 179 hours + 24 hours = 25,216 hours).

Background: The licensed drivers in the United States deserve reasonable assurance that their fellow motorists are properly qualified to drive the vehicles they operate. Before the Commercial Motor Vehicle Safety Act of 1986 (CMVSA or the Act) Public Law 99-570, Title XII, 100 Stat. 3207, codified at 49 U.S.C. chapter 313) was signed by the President on October 27, 1986, 18 States and the District of Columbia authorized any person licensed to drive an automobile to also legally drive a large truck or bus. No special training or special license was required to drive these vehicles, even though it was widely recognized that operation of certain types of vehicles called for special skills, knowledge and training. Even in the 32 States that had a classified driver licensing system in place, only 12 of these States required an applicant to take a skills test in a representative vehicle. Equally serious was the problem of drivers possessing multiple driver licenses that enabled these commercial motor vehicle (CMV) drivers to avoid license suspension for traffic law convictions. By spreading their convictions among several States, CMV drivers could avoid punishment for their infringements, and stay behind the wheel.

The CMVSA addressed these problems. Section 12002 of the Act makes it illegal for a CMV operator to have more than one driver's license. Section 12003 requires the CMV driver conducting operations in commerce to notify both the designated State of licensure official and the driver's employer of any convictions of State or local laws relating to traffic control (except parking tickets). This section also required the promulgation of regulations to ensure each person who applies for employment as a CMV operator to notify prospective employers of all previous employment as a CMV operator for at least the previous ten years.

In section 12005 of the Act, the Secretary of Transportation (Secretary) is required to develop minimum Federal standards for testing and licensing of operators of CMVs.

Section 12007 of the Act also directs the Secretary, in cooperation with the States, to develop a clearinghouse to aid the States in implementing the one driver, one license, and one driving record requirement. This clearinghouse is known as the Commercial Driver's License Information System (CDLIS).

The CMVSA further requires each person who has a CDL suspended, revoked or canceled by a State, or who is disqualified from operating a CMV for any period, to notify his or her employer of such actions. Drivers of CMVs must notify their employers within 1 business day of being notified of the license suspension, revocation, and cancellation, or of the lost right to operate or disqualification. These requirements are reflected in 49 CFR part 383, titled “Commercial Driver's License Standards; Requirements and Penalties.”

Specifically, section 383.21 prohibits a person from having more than one license; section 383.31 requires notification of convictions for driver violations; section 383.33 requires notification of driver's license suspensions; section 383.35 requires notification of previous employment; and section 383.37 outlines employer responsibilities. Section 383.111 requires the passing of a knowledge test by the driver and section 383.113 requires the passing of a skills test by the driver; section 383.115 contains the requirement for the double/triple trailer endorsement, section 383.117 contains the requirement for the passenger endorsement, section 383.119 contains the requirement for the tank vehicle endorsement and section 383.121 contains the requirement for the hazardous materials endorsement.

Section 12011 of the CMVSA states that the Secretary shall withhold a portion of the Federal-aid highway funds apportioned to a State if the State does not substantially comply with the requirements in section 12009(a) of the Act. The information gathered during State compliance reviews is used to determine whether States are complying with these requirements.

A final rule was published on July 31, 2002 (67 FR 49742) implementing 15 of the 16 CDL related provisions of the Motor Carrier Safety Improvement Act of 1999 (MCSIA) (Pub. L. 106-159, 113 Stat. 1748 (Dec. 9, 1999)) that were designed to enhance the safety of drivers on our nation's highways by ensuring that only safe drivers operate CMVs. These new requirements are contained in 49 CFR part 383 and include: Five new major and serious disqualifying offenses (section 383.51): Non-CMV disqualifying offenses by a CDL holder (section 383.51); disqualification of drivers determined to be an imminent hazard (section 383.52); a new school bus endorsement (section 383.123); a prohibition on issuing a hardship license to operate a CMV while under suspension (section 384.210); a prohibition on masking convictions (section 384.226); and various requirements for transmitting, posting and retaining driver convictions and disqualification records.

A Final Rule was published on December 1, 2008 (73 FR 73096) that implemented the 16th CDL related provision of MCSIA, the merging of the medical certification and CDL issuing processes.

An interim final rule (IFR) was published on May 5, 2003 (68 FR 23844) as a companion rule to the Transportation Security Administration's (TSA's) May 5, 2003 IFR implementing section 1012 of the USA PATRIOT Act (Pub. L. 107-56) on security threat assessments for drivers applying for or renewing a CDL with a hazardous materials endorsement. While TSA set the requirements in their rule; FMCSA has the responsibility as part of the CDL testing and issuance process to ensure that States are in compliance with the TSA requirements.

Section 4019 of the Transportation Equity Act for the 21st Century (TEA-21), Public Law 105-178, 112 Stat. 107, June 9, 1998, requires the Secretary of Transportation to review the procedures established and implemented by the States under 49 U.S.C. 31305 for CDL knowledge and skills testing to determine whether the current testing system is an accurate measure and reflection of an individual's knowledge and skills to operate a CMV. The results of this review were incorporated into the new “2005 CDL Test System.” A final rule was published on May 9, 2011 (76 FR 26854) (Attachment J) that requires the use of a State Testing System that is comparable to the 2005 CDL Test System.

Section 4122 of the Safe, Accountable, Flexible, Efficient Transportation Equity Act: a Legacy for Users (SAFETEA-LU), Public Law 109-59, August 10, 2005, requires the Department of Transportation (DOT) to prescribe regulations on minimum uniform standards for the issuance of commercial learner's permits (CLPs), as it has already done for CDLs [49 U.S.C. 31308]. More specifically, section 4122 provides that an applicant for a CLP must first pass a knowledge test which complies with minimum standards prescribed by the Secretary and may have only one CLP at a time (49 U.S.C. sec. 31302); that the CLP document must have the same information and security features as the CDL; and that the data on each CLP holder must be added to the driver's record in CDLIS. The Final Rule published on May 9, 2011 also includes each of those requirements.

Section 703 of the Security and Accountability For Every Port Act of 2006 (SAFE Port Act), Public Law 109-347, October 13, 2006, requires the Secretary of Transportation to promulgate regulations implementing the recommendations in a memorandum issued by the DOT's Office of the Inspector General (OIG) on June 4, 2004, concerning verification of the legal status of commercial drivers, as well as the recommendations in a report issued by the OIG on February 7, 2006 “[Oversight of the Commercial Driver's License Program]” dealing with steps needed to improve anti-fraud measures in the CDL program. The specific recommendations include: The establishment of a legal presence requirement for CDL issuance; declaring a State out of substantial compliance with the CDL requirements if the State fails to impose adequate internal controls to detect and help prevent fraud in the CDL program or fails to take adequate corrective action when fraud is discovered; and imposed sanctions against States for noncompliance. This Final Rule published on May 9, 2011 includes all of the OIG's recommendations. Many of the operational procedures suggested by the OIG for carrying out the recommendations have also been adopted.

This information collection supports the DOT Strategic Goal of Safety by requiring that drivers of CMVs are properly licensed according to all applicable Federal requirements.

The 10-year employment history information supplied by the CDL holder to the employer upon application for employment (49 CFR 383.35) is used to assist the employer in meeting his/her responsibilities to ensure that the applicant does not have a history of high safety risk behavior.

State officials use the information collected on the license application form (49 CFR 383.71), the medical certificate information that is posted to the driving record (proposed) and the conviction and disqualification data posted to the driving record (49 CFR 383.73) to prevent unqualified and/or disqualified CDL holders from operating CMVs on the nation's highways. State officials are also required to administer knowledge and skills tests to CDL driver applicants (49 CFR 384.202). The driver applicant is required to correctly answer at least 80 percent of the questions on each knowledge test in order to achieve a passing score on that test. To achieve a passing score on the skills test, the driver applicant must demonstrate that he/she can successfully perform all of the skills listed in the regulations. During State CDL compliance reviews, FMCSA officials review this information to ensure that the provisions of the regulations are being carried out. Without the aforementioned requirements, there would be no uniform control over driver licensing practices to prevent unqualified and/or disqualified drivers from being issued a CDL and to prevent unsafe drivers from spreading their convictions among several licenses in several States and remaining behind the wheel of a CMV. Failure to collect this information would render the regulations unenforceable.

Information submitted by the States will be used by the FMCSA to determine if individual States are in “substantial compliance” with section 12009(a) of the CMVSA (sec. 12011(a)). The FMCSA reviews information submitted by the States and conducts such reviews, audits, and investigations of each State once every three years or as it deems necessary to make compliance determinations for all States and the District of Columbia. If this information were not available, the FMCSA would have no means of independently verifying State compliance.

This request for renewed approval includes one additional information collection item: “Driver completion of knowledge and skills tests [49 CFR 383.71(a)(2)(ii) and (b)(2)].”

Public Comments: On May 22, 2014, FMCSA published a notice in the Federal Register to announce this proposed ICR and request comment from the public on it for 60 days (79 FR 29480). One comment was received in response to this notice and has been placed in the public docket. The commenter is anonymous. The full comment and responsive consideration is as follows:

The anonymous commenter stated: “The ICR indicates that there are 2.96 million drivers of interstate CMVs. On what basis? BLS puts the number of drivers of heavy trucks at about 1.6 m, not all of whom are in interstate commerce. Even if one adds the self-employed (BLS puts that at less than 150,000) and bus drivers, one would be hard pressed to reach 3 million interstate drivers. Turnover in long-haul truckload is high, but not almost a half million per year as estimated. Does the Agency have any basis for these numbers? The number of drivers holding a CDL is irrelevant, as the ICR admits. A driver is not subject to the rule unless he or she is driving a CMV in interstate commerce. A CDL holder is not required to notify anyone of convictions if he or she is not driving a CMV so using 13 million as the baseline is just silly as it is for the next item (providing information to the new employer).

The burden is vastly overstated.”

The FMCSA in response disagrees with the anonymous commenter. The BLS underestimates the number of drivers who are operating trucks and require a CDL. The BLS only counts persons who declare their profession as a truck driver. There are many other persons who work for utility companies and other employers who consider themselves professional electricians, plumbers, construction workers, etc. who operate commercial motor vehicles that require them to hold a CDL. In addition, drivers of motorcoaches, transit buses and school buses are required to have a CDL if the vehicle is designed to transport 16 or more passengers, including the driver.

In regard to using a little over 13 million as the number of active CDL and commercial learners permit (CLP) holders, this is supported by the number of driver records that are on the Commercial Driver's License Information System minus an estimate of the number of driver records of persons permanently disqualified, voluntarily surrendered their CDL or are recorded deceased, but must remain in the data base because they contain driver convictions that must be retained on the record for a set period of time. These 13 million active CDL and CLP holders represent both interstate and intrastate drivers, whether they are currently employed or not employed. There are certain requires to hold a CDL or CLP whether or not the person is currently employed as a driver. This includes the reporting of all moving violations in any motor vehicle to either their employer or if not currently employed to their State of licensure. Also, there is a high turnover of employed drivers, either seeking new employment or coming in and out of the trucking industry.

Definitions: Under 49 CFR 383.5:

Commercial motor vehicle (CMV) means a motor vehicle or combination of motor vehicles used in commerce to transport passengers or property if the motor vehicle—

(1) Has a gross combination weight rating or gross combination weight of 11,794 kilograms or more (26,001 pounds or more), whichever is greater, inclusive of a towed unit(s) with a gross vehicle weight rating or gross vehicle weight of more than 4,536 kilograms (10,000 pounds), whichever is greater; or

(2) Has a gross vehicle weight rating or gross vehicle weight of 11,794 or more kilograms (26,001 pounds or more), whichever is greater; or

(3) Is designed to transport 16 or more passengers, including the driver; or

(4) Is of any size and is used in the transportation of hazardous materials as defined in this section.

Hazardous materials means any material that has been designated as hazardous under 49 U.S.C. 5103 and is required to be placarded under subpart F of 49 CFR part 172 or any quantity of a material listed as a select agent or toxin in 42 CFR part 73.

Public Comments Invited: You are asked to comment on any aspect of this information collection, including: (1) Whether the proposed collection is necessary for the performance of FMCSA's functions; (2) the accuracy of the estimated burden; (3) ways for FMCSA to enhance the quality, usefulness, and clarity of the collected information; and (4) ways that the burden could be minimized without reducing the quality of the collected information. The agency will summarize or include your comments in the request for OMB's clearance of this information collection.

Issued under the authority of 49 CFR 1.87 on: July 28, 2014.
G. Kelly Regal,
Associate Administrator for Office of Research and Information Technology and Chief Information Officer.

[FR Doc. 2014-18170 Filed 7-31-14; 8:45 am]

BILLING CODE 4910-EX-P